DEPARTMENT OF ENERGY

Federal Energy Regulatory Commission

[Project No. 349-177]

Alabama Power Company; Notice of Application Accepted for Filing and Soliciting Comments, Motions To Intervene, and Protests

Take notice that the following hydroelectric application has been filed with the Commission and is available for public inspection:

a. Application Type: Non-project use of project lands and waters.

b. Project No: 349-177.

c. Date Filed: July 28, 2021, as supplemented on September 13, 2021.

d. Applicant: Alabama Power Company.

e. Name of Project: Martin Dam Hydroelectric Project.

f. Location: The Village development on Lake Martin in Tallapoosa County, Alabama.

g. Filed Pursuant to: Federal Power Act, 16 U.S.C. 791a-825r.

h. Applicant Contact: Unzell Kelley, (205) 517-0885, ukelley@southernco.com.

i. FERC Contact: Mark Carter, (678) 245-3083, mark.carter@ferc.gov.

j. Deadline for filing comments, motions to intervene, and protests: November 15, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-349-177. Comments emailed to Commission staff are not considered part of the Commission record.

k. Description of Request: Alabama Power Company proposes to authorize The Village, LLC to modify the layout of boat docking facilities adjacent to The Village's residential development. The Village currently maintains 15,423 square feet of boat docks on the lake but is proposing to remove two group docks (measuring 10,405 square feet) and replace with several smaller docks and boardwalks (measuring 7,133 square feet) for a net decrease of 3,272 square feet of overwater dock footprint. The proposed boat dock layout would accommodate 72 watercraft in total, which would be an increase in 24 watercraft compared to the existing authorization.

l. Locations of the Application: In addition to publishing the full text of this document in the Federal Register, the Commission provides all interested persons an opportunity to view and/or print the contents of this document via the internet through the Commission's Home Page (http://www.ferc.gov) using the “elibrary” link. Enter the docket number excluding the last three digits in the document field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3673 or TYY, (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: October 13, 2021.
Kimberly D. Bose,
Secretary.

[FR Doc. 2021-22730 Filed 10-18-21; 8:45 am]

BILLING CODE 6717-01-P